DEPARTMENT OF JUSTICE

Antitrust Division

Notice Pursuant to the National Cooperative Research and Production Act of 1993—Telemanagement Forum

Notice is hereby given that, on January 14, 2020, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: Adad, Sophia Antipolis, FRANCE; Beijing Qcubic Technology Co. Limited Company, Beijing, PEOPLE'S REPUBLIC OF CHINA; BMC Software, Inc., Houston, TX; Cartesian Inc., Overland Park, KS; Cellwize Wireless Technologies Pte. Ltd., Tel Aviv, ISRAEL; Cloudlite, Moscow, RUSSIA; Colt Technology Services Group Limited, London, UNITED KINGDOM; DNA Plc, Kuopio, FINLAND; Equinix, Inc, Tampa, FL; IoT Lab, Geneva, SWITZERLAND; M1 Limited, Singapore, SINGAPORE; Multichoice Support Services (Pty) Ltd, Randburg, SOUTH AFRICA; ProximaX, Singapore, SINGAPORE; TDS Telecommunications LLC, Madison, WI; Telecom Namibia Limited, Windhoek, NAMIBIA; Telenor Myanmar Limited, Yangon, MYANMAR; The Libyan International Telecommunication Company, Tripoli, LIBYA; Total Access Communication Public Company Limited, Bangkok, THAILAND; Universitas Multimedia Nusantara, Tangerang, INDONESIA; Unryo Inc., Laval, CANADA; Veschatel LLC, Perm, RUSSIA; Webcircles BV, Oosterbeek, NETHERLANDS; WorkSpan, Foster City, CA; ZDSL.com, Kuala Lumpur, MALAYSIA.

Also, the following members have changed their names: ArchiTelco to EA-Workings B.V., Winchester, UNITED KINGDOM; Black Tangent Pte. Ltd. to Telecta Pte. Ltd., Singapore, SINGAPORE; GDi GISDATA LLC to GDi LLC, Zagreb, CROATIA; SigScale Global Inc. to SigScale, Toronto, CANADA; Telenor Myanmar to Telenor Myanmar Limited, Yangon, MYANMAR; T-Mobile Austria GmbH to Magenta Telekom, Vienna, AUSTRIA; WeDo Technologies to Mobileum Inc., Cupertino, CA.

In addition, the following parties have withdrawn as parties to this venture: ABITEL Consulting GmbH, Düsseldorf, GERMANY; Agama Technologies, Linköping, SWEDEN; ALTIMA d.o.o., Zagreb, CROATIA; Apigate Sdn Bhd, Kuala Lumpur Sentral, SRI LANKA; Axiros GmbH, Munich Hoehenkirchen, GERMANY; City of Utrecht, Utrecht, NETHERLANDS; Ekinno Lab Sp. Z o.o., Gliwice, POLAND; GeoSpock Ltd., Cambridge, UNITED KINGDOM; Guangzhou Sunrise Technology Co., Ltd., Guangzhou, PEOPLE'S REPUBLIC OF CHINA; HCL Hong Kong SAR Limited, Wan Chai, HONG KONG-CHINA; ITS Telco Services GmbH, Köln, GERMANY; John P. Reilly Sole Trader, Plano, TX; Minim Inc., Manchester, NH; NEtComp, Lima, PERU; NetScout Systems, Westford, MA; NetworkedAssets GmbH, Berlin, GERMANY; NTS Retail KG, Wilhering, AUSTRIA; Open Systems S.A., Quito, ECUADOR; OS Group, St.Petersburg, RUSSIA; Pinplay, Seoul, SOUTH KOREA; Skylogic S.p.A., Torino, ITALY; Steward Bank, Harare, ZIMBABWE; The OpenNMS Group, Inc., Apex, NC; TV-7, Seversk, RUSSIA; VF Consulting SAC, Lima, PERU.

No other changes have been made in either the membership or planned activity of the group research project. Membership in this group research project remains open and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on November 25, 2019. A notice was published in the Federal Register pursuant to Section 6(b) of the Act on December 20, 2019 (84 FR 70210).

Suzanne Morris,
Chief, Premerger and Division Statistics Unit, Antitrust Division.

[FR Doc. 2020-02221 Filed 2-4-20; 8:45 am]

BILLING CODE 4410-11-P